DEPARTMENT OF LABOR

Employment and Training Administration

[TA-W-52,566]

Copperweld Corporation, Piqua, OH; Notice of Termination of Investigation

Pursuant to Section 221 of the Trade Act of 1974, as amended, an investigation was initiated on August 15, 2003, in response to a worker petition filed by the United Steelworkers of America, Local 6328, on behalf of workers at Copperweld Corporation, Piqua, Ohio.

The petitioner has requested that the petition be withdrawn. Consequently, the investigation has been terminated.

Signed at Washington, DC this 14th day of October 2003.
Richard Church,
Certifying Officer, Division of Trade Adjustment Assistance.

[FR Doc. 03-29111 Filed 11-20-03; 8:45 am]

BILLING CODE 4510-30-P